DEPARTMENT OF HEALTH AND HUMAN SERVICES

Health Resources and Services Administration

Rural Access to Emergency Devices Grant Program

AGENCY: Health Resources and Services Administration, HHS.

ACTION: Notice of availability of funds.

SUMMARY: The Health Resources and Services Administration (HRSA) announces that approximately $12,500,000 will be available for fiscal year (FY) 2002 grants, technical assistance, and program evaluation for the purchase, placement and training in the use of automated external defibrillators (AEDs) and related activities in eligible rural areas. HRSA estimates that approximately 50 awards will be made to community partnerships, in collaboration with State Offices of Emergency Medical Services, for FY 2002. These grants will be awarded under the authority of Public Law 106-505, Title IV—Cardiac Arrest Survival, Subtitle B—Rural Access to Emergency Devices, 42 U.S.C. 254c note. The Office of Rural Health Policy will administer the Rural Access to Emergency Devices Grant Program.

DATES: All applicants interested in applying for funding under this program are to fax or mail a letter of intent to the Office of Rural Health Policy by May 27, 2002, at fax number (301) 443-2803. A copy of this letter of intent must also be faxed or mailed to the State Office of Emergency Medical Services by this same date. The letter of intent need only include the lead applicant's organizational name, proposed number of AEDs requested and a proposed listing of those in their community partnership. The deadline for receipt of applications is July 15, 2002. Applications will be considered on time if they are either received on or before the deadline date in the HRSA Grants Application Center or postmarked on or before the deadline date. Any changes to the aforementioned dates will be posted on the Office of Rural Health Policy homepage at http://www.ruralhealth.hrsa.gov.

ADDRESSES: To receive an application kit, applicants may telephone the HRSA Grants Application Center at (877) 477-2123 (877-HRSA-123) or the application forms can be downloaded via the Web at http://www.ruralhealth.hrsa.gov/funding.htm. The instructions for preparing the applications will be included with the grant guidance as part of the grant application kit. The Rural Access to Emergency Devices Grant Program uses PHS Forms 424 and 5161 for applications. Applicants must use the formal title “Rural Access to Emergency Devices Grant Program” and CFDA number 93.259 when requesting applications. The CFDA is a Government-wide compendium of enumerated Federal programs, projects services, and activities that provide assistance. All applications must be mailed or delivered to the Grants Management Officer, Office of Rural Health: HRSA Grants Application Center, 901 Russell Avenue, Suite 450, Gaithersburg, MD 20879: telephone (877) 477-2123. This notice will appear in the Federal Register at http://www.gpo.gov/su_docs/aces/aces140.html and the Office of Rural Health Policy homepage at http://www.ruralhealth.hrsa.gov/.

FOR FURTHER INFORMATION CONTACT: Evan Mayfield, Office of Rural Health Policy, HRSA, Room 9A-55, Parklawn Building, 5600 Fishers Lane, Rockville, MD 20857, or email address ruralaed@hrsa.gov, telephone number (301) 443-0835 and fax number (301) 443-2803.

SUPPLEMENTARY INFORMATION:

(1) Program Background and Objectives

Rural Access to Emergency Devices Act, 42 U.S.C. 254c note, authorizes grants to community partnerships to provide for the purchase, placement, and training in the use of automated external defibrillators (AEDs) and related activities in eligible rural areas. An applicant must be a multi-county, regional or Statewide consortium of rural community organizations applying as a community partnership. Each community partnership must have a designated lead applicant to apply as the grantee of record and act as a fiscal agent for the partnership. Funding preference ¹ will be granted to applications that are Statewide in scope. Additional funding priority ² will be given to Statewide community partnerships that identify their State Office of Emergency Medical Services as the lead applicant and/or include emergency first response entities (e.g., EMS, law enforcement and fire departments) that are currently operating without AEDs. In order to qualify as a Statewide community partnership, not every eligible county within a State need apply but must have a State Office as the lead applicant. Selected locations around the State should be identified by the lead applicant to achieve fair geographical, organizational (e.g., first response verses public access placement) and resource allocation.

¹ (Preference) moves those approved applicants carrying the preference ahead of approved applicants without the preference.

² (Priority) gives an application additional points during the scoring process of approved applications.

The State Office of Emergency Medical Services is a logical lead applicant to disseminate funding to individual entities within the partnership given their statutory role in medical direction and regulation. Other State Offices eligible to accept these Federal grant funds include the State Office of Rural Health or a division within the Department of Health. The State Office of Rural Health is a valuable resource for consulting in public access AED placement for those areas that lack EMS services, or are located too far away to be of practical benefit to a community. Community partnerships that apply without their State Office of Emergency Medical Services as the lead applicant must work with the State Office of Emergency Medical Services on issues related to medical direction and integration and placement of AEDs into existing EMS systems.

(2) Eligible Applicants

Applicants must apply in the form of a community partnership. Interested eligible entities are encouraged to collaborate with a wide range of other providers in developing a broad-based consortium that will make up their community partnerships. These partnerships will include local first response entities (e.g., EMS, law enforcement and fire departments). In addition, local for- and non-profit entities may be included (that have a demonstrated concern about cardiac arrest survival rates) such as, but are not limited to, community hospitals or clinics, nursing homes and senior citizen day care facilities, governmental facilities, athletic facilities, faith based organizations and schools.

All services provided by the community partnership must be provided in an eligible rural county or Rural-Urban Commuting Area zip code. All State Offices, acting on behalf of the community partnerships within their State, will be required to demonstrate how its services will be directed to the eligible rural areas. A complete listing of these eligible rural areas is available on the Web. Eligible rural counties can be found at (http://www.ruralhealth.hrsa.gov/ruralcoI.htm) and Rural-Urban Commuting Area zip codes can be found at (http://www.ruralhealth.hrsa.gov/ruralcoZIPII.htm). Each is sorted by State.

(3) Review Criteria

The HRSA Grants Application Center will screen applications for completeness and responsiveness to the program guidance. Applications that are complete and responsive to the guidance will be evaluated for technical merit by a peer review group convened specifically for this solicitation and in accordance with HRSA grants management policies and procedures. As part of the initial merit review, all applications will receive a written critique. Applications recommended for funding will be discussed fully by the ad hoc peer review group and assigned a priority score for funding. Technical merit will be assessed using the following criteria:

(a) Need for AED equipment and training with documentation using any local standard enumerating average response ³ and transport times (noting mileage to stabilizing and/or definitive care) for the response area and cardiovascular mortality prevalence rates;

³ If there are no pre-existing records of response times, a plan on how these times will be recorded must be included.

(b) Plan for a need-based placement of AEDs and accessibility plan to those AEDs;

(c) Estimated AED purchasing, training, and maintenance costs (include maintenance schedule);

(d) How the grant award will be distributed within the community partnership, with identified names of who will receive funding for each entity within the partnership;

(e) An identified and approved CPR and AED training entity;

(f) Who will use the AEDs, and reference State laws regulating AED usage;

(g) Integration into local EMS systems ensuring medical direction for documented protocols of care and legal oversight; and

(h) A well-defined data collection and reporting mechanism via their State Office of Emergency Medical Services or the State Office of Rural Health should the former be unable to participate.

A further explanation of these criteria will be included in the grant guidance.

Paperwork Reduction Act

The application for the Rural Access to Emergency Devices Grant Program has been approved by the Office of Management and Budget (OMB) under the Paperwork Reduction Act. The OMB clearance number is 0920-0428.

Public Health System Impact Statement

This program is subject to the Public Health System Reporting Requirements (approved under OMB No. 0937-0195). Under these requirements, the community-based non-governmental applicant must prepare and submit a Public Health System Impact Statement (PHSIS). The PHSIS is intended to provide information to State and local health officials to keep them apprized of proposed health services grant applications submitted by community-based organizations within their jurisdictions.

Community-based non-governmental applicants are required to submit the following information to their State Office of Emergency Medical Services no later than the Federal application receipt due date of July 15, 2002:

(a) A copy of the face page of the application (SF 424)

(b) An abstract of the project not to exceed one page, which provides:

(1) A description of the population to be served,

(2) The proposed number of AEDs to be purchased and how many people will be trained within the community partnership,

(3) A description of the coordination planned with the appropriate State agencies (ranging from required notification of AED placement to such agency agreeing to being the lead applicant and/or fiscal agent of a Statewide community partnership should they choose to).

Executive Order 12372

This grant program is subject to the provisions of Executive Order 12372 concerning intergovernmental review of Federal programs by appropriate State and local officials as implemented by 45 CFR part 100. Executive Order 12372 allows States the option of setting up a system for reviewing applications from within their States for assistance under certain Federal programs. Applicants (other than Federally-recognized Indian tribal governments) should contact their State Single Point of Contact (SPOC), a list of which will be included in the application kit, as early as possible to alert them to the prospective applications and receive any necessary instructions on the State process. All SPOC recommendations should be submitted to Larry Poole, Office of Grants Management, Bureau of Primary Health Care, 4350 East West Highway, 11th Floor, Bethesda, Maryland 20814, (301) 594-4260. The due date for State process recommendations is 60 days after the application deadline of July 15, 2002, for competing applications for the Rural Access to Emergency Devices Grant Program. The granting agency does not guarantee to “accommodate or explain” State process recommendations it receives after that date. See part 148 of the PHS Grants Administration Manual, Intergovernmental Review of PHS Programs under Executive Order 12372, and 45 CFR part 100 for a description of the review process and requirements.

Dated: May 12, 2002.
Elizabeth M. Duke,
Administrator.

[FR Doc. 02-12481 Filed 5-16-02; 8:45 am]

BILLING CODE 4165-15-P